DEPARTMENT OF COMMERCE

National Oceanic and Atmospheric Administration

[File No. 14534]

RIN 0648-XR52

Marine Mammals

AGENCY: National Marine Fisheries Service (NMFS), National Oceanic and Atmospheric Administration (NOAA), Commerce.

ACTION: Notice; receipt of application for permit amendment.

SUMMARY: Notice is hereby given that NOAA's Office of Science and Technology, Silver Spring, MD, (Brandon Southall, Ph.D.—Principal Investigator) has applied for an amendment to Scientific Research Permit No. 14534-01.

DATES: Written, telefaxed, or email comments must be received on or before January 9, 2012.

ADDRESSES: The application and related documents are available for review by selecting “Records Open for Public Comment” from the Features box on the Applications and Permits for Protected Species home page, https://apps.nmfs.noaa.gov, and then selecting File No. 14534 from the list of available applications.

These documents are also available upon written request or by appointment in the following offices:

Permits and Conservation Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

Written comments on this application should be submitted to the Chief, Permits, Conservation and Education Division, at the address listed above. Comments may also be submitted by facsimile to (301) 713-0376, or by email to NMFS.Pr1Comments@noaa.gov. Please include File No. 14534 in the subject line of the email comment.

Those individuals requesting a public hearing should submit a written request to the Chief, Permits, Conservation and Education Division at the address listed above. The request should set forth the specific reasons why a hearing on this application would be appropriate.

FOR FURTHER INFORMATION CONTACT: Tammy Adams or Carrie Hubard, (301) 427-8401.

SUPPLEMENTARY INFORMATION: The subject amendment to Permit No. 14534 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-226).

Permit No. 14534, issued on July 2, 2010 (75 FR 39665), authorizes the permit holder to harass marine mammals during studies of sound production, diving, responses to sound, and other behavior. The research is focused in the waters within the U.S. Navy's Southern California Range Complex, and primarily near the vicinity of San Clemente Island. The experimental design involves temporarily attaching individual recording tags to measure vocalization, behavior, and physiological parameters as well as sound exposure. Behavior is measured before, during, and after carefully controlled exposures of sound in conventional playback experiments. Target species include beaked whales and other odontocetes, key baleen whales, and pinniped species for which such data have not been previously obtained; other marine species may be incidentally impacted. Please refer to the tables in the issued permit for the numbers of marine mammals covered, by species and stock. The permit is valid through July 31, 2015.

A minor amendment, Permit No. 14534-01, was issued August 30, 2010, to combine the permitted takes of 60 long-beaked common dolphins (Delphinus capensis) and 3,540 short-beaked common dolphins (D. delphis) into a single “unidentified common dolphin” category for harassment incidental to the playbacks because these species can co-occur and are difficult to distinguish from each other in the field and at the distances at which they are counted. The minor amendment did not change the expiration date.

The permit holder is requesting the permit be amended to include harassment takes of an additional 172 humpback whales (Megaptera novaengliae), 172 minke whales (Balaenoptera acutorostrata), and 902 killer whales (Orcinus orca). These three species are currently only taken incidental to activities directed at target species. The amendment would convert them to additional focal species subject to tagging and intentional exposure to sound playbacks with associated observations.

A draft environmental assessment (EA) has been prepared in compliance with the National Environmental Policy Act of 1969 (42 U.S.C. 4321 et seq.), to examine whether significant environmental impacts could result from issuance of the proposed scientific research permit. The draft EA is available for review and comment simultaneous with the scientific research permit application.

Concurrent with the publication of this notice in the Federal Register, NMFS is forwarding copies of this application to the Marine Mammal Commission and its Committee of Scientific Advisors.

Dated: December 2, 2011.
Tammy C. Adams,
Acting Chief, Permits and Conservation Division, Office of Protected Resources, National Marine Fisheries Service.

[FR Doc. 2011-31564 Filed 12-8-11; 8:45 am]

BILLING CODE 3510-22-P